DEPARTMENT OF TRANSPORTATION

Federal Aviation Administration

14 CFR Part 71

[Docket No. FAA-2010-0004; Airspace Docket No. 09-ASW-32]

RIN 2120-AA66

Amendment of Jet Routes and VOR Federal Airways in the Vicinity of Gage, OK

AGENCY: Federal Aviation Administration (FAA), DOT.

ACTION: Final rule.

SUMMARY: This action amends the legal description of two Jet Routes and seven VHF Omnidirectional Range (VOR) Federal Airways in the vicinity of Gage, OK. The FAA is taking this action because the Gage VHF Omnidirectional Range/Tactical Air Navigation (VORTAC), included as part of the route structure for the airways, is being renamed the Mitbee VORTAC for identity clarification.

DATES: Effective date 0901 UTC, June 3, 2010. The Director of the Federal Register approves this incorporation by reference action under 1 CFR part 51, subject to the annual revision of FAA Order 7400.9 and publication of conforming amendments.

FOR FURTHER INFORMATION CONTACT: Colby Abbott, Airspace and Rules Group, Office of System Operations Airspace and AIM, Federal Aviation Administration, 800 Independence Avenue, SW., Washington, DC 20591; telephone: (202) 267-8783.

SUPPLEMENTARY INFORMATION:

The Rule

This action amends Title 14 Code of Federal Regulations (14 CFR) part 71 by amending the legal description of Jet Routes J-26 and J-98 and VOR Federal Airways V-12, V-17, V-190, V-280, V-390, V-402, and V-507 in the vicinity of Gage, OK. Currently, these airways have the Gage, OK, [VORTAC] included as part of their route structure. The Gage VORTAC and the Gage Airport, both in Gage, OK, share the same name and facility identifier (GAG), but are not co-located and are greater than 5 nautical miles apart. To eliminate the possibility of confusion, and a potential flight safety issue, the Gage VORTAC will be renamed the Mitbee VORTAC and assigned a new facility identifier (MMB). All Jet Routes and VOR Federal Airways with Gage, OK, [VORTAC] included in their legal descriptions will be amended to reflect the name change. The name change of the VORTAC will coincide with the effective date of this rulemaking action.

Since this action merely involves editorial changes in the legal description of Jet Routes and VOR Federal Airways, and does not involve a change in the dimensions or operating requirements of that airspace, notice and public comment under 5 U.S.C. 553(b) are unnecessary.

Jet Routes and Domestic VOR Federal Airways are published in paragraphs 2004 and 6010(a), respectively, of FAA Order 7400.9T, signed August 27, 2009, and effective September 15, 2009, which is incorporated by reference in 14 CFR 71.1. The Jet Routes and domestic VOR Federal Airways listed in this document will be published subsequently in the Order.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it amends the legal description of Jet Routes and VOR Federal Airways in the vicinity of Gage, OK.

Environmental Review

There are no changes to the lateral limits. Therefore, the FAA has determined that this action is not subject to environmental assessments and procedures in accordance with FAA Order 1050.1E, Policies and Procedures for Considering Environmental Impacts, and the National Environmental Policy Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the FAA Order 7400.9T, Airspace Designations and Reporting Points, signed August 27, 2009, and effective September 15, 2009, is amended as follows:

Paragraph 2004 Jet Routes.

* * * * *

J-26 [Amended]

From Ciudad Juarez, Mexico, via El Paso, TX; INT of El Paso 070° and Chisum, NM, 215° radials; Chisum; Panhandle, TX; Mitbee, OK; Wichita, KS; Kansas City, MO; Kirksville, MO; Bradford, IL; to Joliet, IL. The airspace within Mexico is excluded.

* * * * *

J-98 [Amended]

From Liberal, KS, via Mitbee, OK; Will Rogers, OK; via Tulsa, OK; Springfield, MO; to Farmington, MO.

* * * * *

Paragraph 6010(a) Domestic VOR Federal Airways.

* * * * *

V-12 [Amended]

From Gaviota, CA, via San Marcus, CA; Palmdale, CA; 38 miles, 6 miles wide, Hector, CA; 12 miles, 38 miles, 85 MSL, 14 miles, 75 MSL, Needles, CA; 45 miles, 34 miles, 95 MSL, Drake, AZ; Winslow, AZ; 30 miles, 85 MSL, Zuni, NM; Albuquerque, NM; Otto, NM; Anton Chico, NM; Tucumcari, NM; Amarillo, TX; Mitbee, OK; Anthony, KS; Wichita, KS; Emporia, KS; Johnson County, KS; Napoleon, MO; INT Napoleon 095° and Columbia, MO, 292° radials; Columbia; Foristell, MO; Troy, IL; Bible Grove, IL; Shelbyville, IN; Richmond, IN; Dayton, OH; Appleton, OH, Newcomerstown, OH; Allegheny, PA; Johnstown, PA; Harrisburg, PA; INT Harrisburg 092° and Pottstown, PA, 278° radials; to Pottstown.

* * * * *

V-17 [Amended]

From Brownsville, TX, via Harlingen, TX; McAllen, TX; 29 miles, 12 AGL, 34 miles, 25 MSL, 37 miles, 12 AGL; Laredo, TX; Cotulla, TX; INT Cotulla 046° and San Antonio, TX, 198° radials; San Antonio; Centex, TX; Waco, TX; Glen Rose, TX; Millsap, TX; Bowie, TX; Ardmore, OK; Will Rogers, OK; Mitbee, OK; Garden City, KS; to Goodland, KS.

* * * * *

V-190 [Amended]

From Phoenix, AZ; St. Johns, AZ; Albuquerque, NM; Fort Union, NM, Dalhart, TX; Mitbee, OK; INT Mitbee 059° and Pioneer, OK, 280° radials; Pioneer; INT Pioneer 094° and Bartlesville, OK, 256° radials; Bartlesville; INT Bartlesville 075° and Oswego, KS, 233° radials; Oswego; INT Oswego 085° and Springfield, MO, 261° radials; Springfield; Maples, MO; Farmington, MO; Marion, IL; to Pocket City, IN.

* * * * *

V-280 [Amended]

From Ciudad Juarez, Mexico, via El Paso, TX; INT El Paso 070° and Pinon, NM, 219° radials; Pinon; Chisum, NM; INT Chisum 063° and Texico, NM, 218° radials; Texico; Panhandle, TX; Mitbee, OK; INT Mitbee 025° and Hutchinson, KS, 234° radials; Hutchinson; INT Hutchinson 061° and Topeka, KS, 236° radials; to Topeka. The airspace within Mexico is excluded.

* * * * *

V-390 [Amended]

From Tucumcari, NM, via Borger, TX; INT Borger 061° and Mitbee, OK, 249° radials; to Mitbee.

* * * * *

V-402 [Amended]

From Tucumcari, NM, via INT Tucumcari 101° and Panhandle, TX, 255° radials; Panhandle; INT Panhandle 070° and Mitbee, OK, 215° radials; to Mitbee.

* * * * *

V-507 [Amended]

From Ardmore, OK; Will Rogers, OK, via INT Will Rogers 284° and Mitbee, OK, 152° radials; Mitbee; Liberal, KS; to Garden City, KS.

Issued in Washington, DC, on March 4, 2010.
Edith V. Parish,
Manager, Airspace and Rules Group.

[FR Doc. 2010-5368 Filed 3-16-10; 8:45 am]

BILLING CODE 4910-13-P